DEPARTMENT OF ENERGY

Federal Energy Regulatory Commission

[Project No. 14966-000]

Notice of Preliminary Permit Application Accepted for Filing and Soliciting Comments, Motions To Intervene, and Competing Applications; Grid Balance Hydropower, LLC

On February 25, 2019, Grid Balance Hydropower, LLC, filed an application for a preliminary permit, pursuant to section 4(f) of the Federal Power Act (FPA), proposing to study the feasibility of the Packer-Banks Pumped Storage Project to be located in Carbon County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) A new 9,500-foot-long, 80- to 120-foot-high roller-compacted concrete and/or rock-filled dam or dike forming an upper reservoir having a surface area of 120 acres and a total storage capacity of approximately 9,300 acre-feet at a normal maximum water surface elevation between approximately 1,960 and 1,860 feet above mean sea level (msl); (2) a lower reservoir with three different options: Option A (site 1) or B (site 2) would include a new 9,500-foot-long, 85- to 95-foot-high roller-compacted concrete and/or rock-filled dam or dike forming a lower reservoir having a surface area of 120 acres and a total storage capacity of approximately 9,300 acre-feet at a normal maximum water surface elevation between approximately 1,250 and 1,350 feet msl. Option C (site 3) would include a below grade mine pit with a surface area of 200 acres and a total storage capacity of approximately 10,000 acre-feet at a normal maximum water surface elevation between approximately 1,250 and 1,350 feet msl; (3) a 5,500-foot-long tunnel and/or penstock connecting the upper and lower reservoirs; (4) a powerhouse containing four turbine-generator units with a total rated capacity of 400 megawatts; (5) a transmission line connecting to an existing 230-kilovolt transmission line traversing the site; and (6) appurtenant facilities. Initial fill and make-up water for the project would come from a nearby abandoned mine drainage source. The proposed project would have an annual generation of 1,680,000 megawatt-hours.

Applicant Contact: Paul A. DiRenzo, Jr., Grid Balance Hydropower, LLC, 214 Norwegian Woods Drive, Pottsville, PA 17901; phone: 570-617-7810.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14966-000.

More information about this project, including a copy of the application, can be viewed or printed on the “eLibrary” link of the Commission's website at http://www.ferc.gov/docs-filing/elibrary.asp. Enter the docket number (P-14966) in the docket number field to access the document. For assistance, contact FERC Online Support.

Dated: May 1, 2019.
Kimberly D. Bose,
Secretary.

[FR Doc. 2019-09294 Filed 5-6-19; 8:45 am]

BILLING CODE 6717-01-P